Title 3—

The President

Proclamation 9979 of January 23, 2020

To Further Facilitate Positive Adjustment to Competition From Imports of Large Residential Washers

By the President of the United States of America

A Proclamation

1. On January 23, 2018, pursuant to section 203 of the Trade Act of 1974, as amended (the “Trade Act”) (19 U.S.C. 2253), I issued Proclamation 9694, which imposed a safeguard measure for a period of 3 years plus 1 day comprising both a tariff-rate quota (TRQ) on imports of large residential washers (washers) provided for in subheadings 8450.11.00 and 8450.20.00 of the Harmonized Tariff Schedule of the United States (HTS) and a TRQ on covered washer parts provided for in subheadings 8450.90.20 and 8450.90.60 of the HTS. I exempted covered imports from Canada and certain designated beneficiary countries under the Generalized System of Preferences from the application of the measure.

2. On August 7, 2019, the United States International Trade Commission (USITC) issued its report pursuant to section 204(a)(2) of the Trade Act (19 U.S.C. 2254(a)(2)), on the results of its monitoring of developments with respect to the domestic washers industry (USITC, Large Residential Washers: Monitoring Developments in the Domestic Industry, No. TA-204-013). In its report, the USITC found that imports peaked in November and December of 2017, just before the safeguard measure was imposed, and again in February and March of 2019, at the opening of the second TRQ period. More recent data from U.S. Customs and Border Protection indicate that the number of imported units exceeded the 1.2-million-unit annual limit qualifying for the in-quota rate well before the end of the year in the first year of the measure and in less than 3 months in the second year of the measure.

3. Section 204(b)(1)(B) of the Trade Act (19 U.S.C. 2254(b)(1)(B)) authorizes the President, upon petition of the majority of the representatives of the domestic industry, to reduce, modify, or terminate an action taken under section 203 of the Trade Act when the President determines that the domestic industry has made a positive adjustment to import competition.

4. After taking into account the information provided in the USITC's report, and after receiving a petition from the representative of the majority of the domestic industry, I have determined that the domestic industry has begun to make positive adjustment to import competition but that, despite that adjustment, increased imports of washers at peak times of the year have impaired the effectiveness of the action I proclaimed in 2018 under section 203 of the Trade Act, and modification of the action is warranted.

5. Section 204(b)(2) of the Trade Act (19 U.S.C. 2254(b)(2)) also authorizes the President to take such additional action under section 203 of the Trade Act as may be necessary to eliminate any circumvention of any action previously taken under such section. Pursuant to section 203(a)(3)(B) of the Trade Act (19 U.S.C. 2253(a)(3)(B)), the President may proclaim a TRQ on the imported article.

6. I have further determined that additional action is necessary to eliminate circumvention of the TRQ by ensuring that within-quota quantities of imports of washers are spread throughout the year, thus eliminating the possibility that importers' concentration of imports of washers in a limited period would distort the quantity of washers in the U.S. market and undermine the positive effect of the TRQ on the domestic industry's adjustment to import competition. Accordingly, I have decided to allocate, on a quarterly basis, within-quota quantities of 1.2 million washers during the third year of the action, beginning February 7, 2020.

7. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, DONALD J. TRUMP, President of the United States of America, acting under the authority vested in me by the Constitution and the laws of the United States, including but not limited to sections 203, 204, and 604 of the Trade Act, do proclaim that:

(1) In order to modify the quantitative limitations applicable to imports of washers under HTS subheadings 8450.11.00 and 8450.20.00, by allocating the within-quota quantities for the third quota year on a quarterly basis, subchapter III of chapter 99 of the HTS is modified as set forth in the Annex to this proclamation.

(2) Any provision of previous proclamations and Executive Orders that is inconsistent with the actions taken in this proclamation is superseded to the extent of such inconsistency.

(3) The modifications to the HTS made by this proclamation, including the Annex hereto, shall be effective with respect to goods entered for consumption, or withdrawn from warehouse for consumption, on or after 12:01 a.m. eastern standard time on February 7, 2020, and shall continue in effect as provided in the Annex to this proclamation, unless such actions are earlier expressly reduced, modified, or terminated. One year from the termination of the safeguard measure established in this proclamation, the U.S. note and tariff provisions established in the Annex to this proclamation shall be deleted from the HTS.

IN WITNESS WHEREOF, I have hereunto set my hand this twenty-third day of January, in the year of our Lord two thousand twenty, and of the Independence of the United States of America the two hundred and forty-fourth.

Billing code 3295-F0-P

[FR Doc. 2020-01650

Filed 1-27-20; 11:15 a.m.]

Billing code 7020-02-C